DEPARTMENT OF ENERGY

Agency Information Collection Extension

AGENCY: Bonneville Power Administration, Department of Energy.

ACTION: Submission for Office of Management and Budget (OMB) review; comment request.

SUMMARY: The Department of Energy (DOE), Bonneville Power Administration (BPA), has submitted an information collection request to the OMB for extension under the provisions of the Paperwork Reduction Act of 1995. The information collection requests a three-year approval of its collection, titled Bonneville Power Administration (BPA) Customer Request Services, OMB Control Number 1910-NEW. The proposed collection, Customer Request Services, will be used to allow customers to make requests, specifically for power interruption or to upgrade wireless sites collocated on BPA facilities. This information is used to manage these types of requests.

DATES: Comments regarding this proposed information collection must be received on or before September 21, 2022. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function. Written comments may be sent to Bonneville Power Administration, Attn: Stephanie Noell, Privacy Program, CGI-7, P.O. Box 3621, Portland, OR 97208-3621, or by email at privacy@bpa.gov.

FOR FURTHER INFORMATION CONTACT: Requests for additional information or copies of the information collection instrument and instructions should be directed to Attn: Stephanie Noell, Privacy Program, by email at privacy@bpa.gov, or by phone at (503) 230-3881.

SUPPLEMENTARY INFORMATION: This information collection request contains: (1) OMB No.: 1910-NEW; (2) Information Collection Request Title: Customer Request Services; (3) Type of Request: New; (4) Purpose: This information collection will be used to allow customers to make requests, specifically for power interruption or to upgrade wireless sites collocated on BPA facilities: BPA F 6500.15e—Transmission Operator Provider (TOP) Outage Request—Customers/USBR/COE, BPA F 6530.16e—Application for a Wireless Site Upgrade Co-Located on BPA Facilities; (5) Estimated Number of Respondents: 131; (6) Total Annual Responses: 6,325; (7) Annual Estimated Number of Burden Hours: 1,113; (8) Annual Estimated Reporting and Recordkeeping Cost Burden: $0.

Statutory Authority: The Bonneville Project Act of 1937, 16 U.S.C. ch. 12B; 16 U.S.C. 832a(b); and the Federal Columbia River Transmission System Act of 1974, 16 U.S.C. ch. 12G; 16 U.S.C 838b.

Signing Authority: This document of the Department of Energy was signed on August 15, 2022, by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 17, 2022.
Treena V. Garrett,
Federal Register Liaison Officer, U.S. Department of Energy.

[FR Doc. 2022-18025 Filed 8-19-22; 8:45 am]

BILLING CODE 6450-01-P